DEPARTMENT OF ENERGY

Federal Energy Regulatory Commission

[Docket Nos. CP07-191-000; CP07-192-000]

Port Dolphin Energy LLC; Notice of Application

May 9, 2007.

Take notice that on April 25, 2007, Port Dolphin Energy LLC (Port Dolphin), 12727 Featherwood, Suite 113, Houston, Texas 77034, filed in Docket Nos. CP07-191-000 and CP07-192-000 an application, pursuant to section 7(c) of the Natural Gas Act and Part 157, Subpart A of the Commission's regulations, for: (1) a certificate of public convenience and necessity authorizing Port Dolphin to construct, install, own, operate, and maintain a single-use, 5.8-mile natural gas pipeline and related facilities necessary to provide transportation from the proposed Port Dolphin Project, a deepwater port offshore of Tampa Bay, Florida, to interconnections with Gulfstream Natural Gas System, L.L.C. (Gulfstream) and TECO Energy, Inc. (TECO), with applicable waivers; and (2) a blanket construction certificate pursuant to Subpart F of Part 157 of the Commission's regulations. The application is on file with the Commission and open to public inspection. The filing may also be viewed on the Web at http://www.ferc.gov using the “eLibrary” link. Enter the docket number excluding the last three digits in the docket number field to access the document. For assistance, call (866) 208-3767 or TYY, (202) 502-8659.

The Port Dolphin Pipeline will be a proprietary, single-use pipeline dedicated solely to transporting re-gasified LNG from the Port Dolphin Project with a capacity up to 1,200 million standard cubic feet per day (MMscf/d). Port Dolphin states that it will operate the Port Dolphin port as a proprietary LNG receiving and re-gasification facility pursuant to the Deepwater Port Act of 1974. Accordingly, Port Dolphin filed an application to construct and operate the offshore portions of the Port Dolphin Project with the Maritime Administration and the U.S. Coast Guard (USCG) on March 29, 2007.

The USCG will serve as the lead agency responsible for developing and issuing an Environmental Impact Statement (EIS) for both the deepwater port and the associated onshore pipeline and related facilities referenced in this Notice. The FERC will act as a cooperating agency in developing the EIS. The filing of the final EIS in the Commission's public record for this proceeding will serve to notify federal and state agencies of the timing for the completion of all necessary reviews, and the subsequent need to complete all federal authorizations within 90 days of the date of issuance of the final EIS.

Any questions regarding this application should be directed to Ragnar Wisloff or Jeff Oetting, Port Dolphin Energy LLC, 12727 Featherwood, Suite 113, Houston, Texas 77034, phone (281) 922-1822.

There are two ways to become involved in the Commission's review of this project. First, any person wishing to obtain legal status by becoming a party to the proceedings for this project should, on or before March 25, 2004, file with the Federal Energy Regulatory Commission, 888 First Street, NE., Washington, D.C. 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See 18 CFR 385.2001(a)(1)(iii) and the instructions on the Commission's Web site under the “e-Filing” link.

Comment Date: May 30, 2007.

Kimberly D. Bose,
Secretary.

[FR Doc. E7-9353 Filed 5-15-07; 8:45 am]

BILLING CODE 6717-01-P